NATIONAL AERONAUTICS AND SPACE ADMINISTRATION

14 CFR Parts 1260 and 1274

RIN 2700-AD30

NASA Grant and Cooperative Agreement Handbook—Training Grant and Award Procedures

AGENCY: National Aeronautics and Space Administration.

ACTION: Final rule.

SUMMARY: This final rule makes the following administrative changes to NASA internal procedures: 14 CFR 1260.12(c)(3)(iii) is revised to identify the new name of the Science Mission Directorate's (SMD's) graduate fellowship program; and 14 CFR 1274.211(a) is revised to conform the HQ public announcement procedures to those in the NASA FAR Supplement (NFS).

DATES: Effective Date: This final rule is effective October 24, 2006.

FOR FURTHER INFORMATION CONTACT: Jamiel C. Commodore, NASA, Office of Procurement, Contract Management Division; (202) 358-0302; e-mail: Jamiel.C.Commodore@nasa.gov.

SUPPLEMENTARY INFORMATION:

A. Background

Following a reorganization, the NASA Earth System Science Fellowship Program was renamed the NASA Earth and Space Science Fellowship Program. This final rule includes the administrative change to 14 CFR 1260.12(c)(3)(iii) to reflect the new program title.

Section 1805.303-71 of the NFS has been revised to require notification of the Administrator at least three days before the public announcement of contract award. This final rule makes an administrative change to the Grant Handbook to establish the same notification period for cooperative agreements with commercial firms.

B. Regulatory Flexibility Act

NASA certifies that this final rule will not have a significant economic impact on a substantial number of small entities within the meaning of the Regulatory Flexibility Act, 5 U.S.C. 601, et seq, because the changes are merely administrative and affect only internal Agency procedures.

C. Paperwork Reduction Act

The Paperwork Reduction Act does not apply because this rule does not impose any new recordkeeping or information collection requirements, or collection of information from offerors, contractors, or members of the public that require the approval of the Office of Management and Budget under 44 U.S.C. 3501, et seq.

List of Subjects in 14 CFR Parts 1260 and 1274

Grant programs—science and technology.

Tom Luedtke,
Assistant Administrator for Procurement.

Accordingly, 14 CFR parts 1260 and 1274 are amended as follows:

PART 1260-GRANTS AND COOPERATIVE AGREEMENTS

1. The authority citation for 14 CFR Part 1260 continues to read as follows:

Authority: 42 U.S.C. 2473(c)(1), Public Law 97-258, 96 Stat. 1003 (31 U.S.C. 6301, et seq), and OMB Circular A-110.

2. Amend § 1260.12 by revising paragraph (c)(3)(iii) to read as follows:

§ 1260.12 Choice of award instrument.

* * * * *

( c) * * *

(3) * * *

(iii) Students and faculty receiving direct support under a NASA training grant must be U.S. citizens, except for those supported by the NASA Earth and Space Science Fellowship Program, the NASA Earth System Science Fellowship Program, the Graduate Student Fellowship in Global Change Research Program, and the GLOBE Program.

* * * * *

PART 1274—COOPERATIVE AGREEMENTS WITH COMMERCIAL FIRMS

3. The authority citation for 14 CFR part 1274 continues to read as follows:

Authority: 31 U.S.C. § 6301 to 6308; 42 U.S.C. § 2451, et seq.

4. Amend § 1274.211 by revising paragraph (a) to read as follows:

§ 1274.211 Award procedures.

(a) In accordance with NFS 1805.303-71, the NASA Administrator shall be notified at least three (3) workdays before a planned public announcement for award of a cooperative agreement (regardless of dollar value), if it is thought the agreement may be of significant interest to Headquarters.

* * * * *

[FR Doc. E6-17801 Filed 10-23-06; 8:45 am]

BILLING CODE 7510-01-P